DEPARTMENT OF EDUCATION

National Board for Education Sciences; Notice of Meeting

AGENCY: Department of Education, Institute of Education Sciences.

ACTION: Notice of an Open Meeting With a Partially Closed Session.

SUMMARY: This notice sets forth the schedule and proposed agenda of an upcoming partially closed meeting of the National Board for Education Sciences. The notice also describes the functions of the committee. Notice of this meeting is required by Section 10(a)(2) of the Federal Advisory Committee Act and is intended to notify the public of their opportunity to attend the open portions of the meeting.

DATES: September 9 and 10, 2008.

Time: September 9, 10 a.m. to 4:15 p.m., open; September 10, 8:30 a.m. to 12:30 p.m., open; 12:30 p.m. to 1 p.m., closed.

ADDRESSES: Institute of Education Sciences Board Room, 80 F St., NW., Washington, DC 20208.

FOR FURTHER INFORMATION CONTACT: Norma Garza, Executive Director, National Board for Education Sciences, 555 New Jersey Ave., NW., Room 627 H, Washington, DC 20208; phone: (202) 219-2195; fax: (202) 219-1466; e-mail: Norma.Garza@ed.gov.

Individuals who use a telecommunications device for the deaf (TDD) may call the Federal Information Relay Service (FRS) at 1-800-877-8339.

SUPPLEMENTARY INFORMATION: The National Board for Education Sciences is authorized by Section 116 of the Education Sciences Reform Act of 2002. The Board advises the Director of the Institute of Education Sciences (IES) on the establishment of activities to be supported by the Institute, on the funding for applications for grants, contracts, and cooperative agreements for research after the completion of peer review, and reviews and evaluates the work of the Institute.

On September 9, from 10 a.m. to 12:15 p.m., the Board will receive reports from the Director of IES and the Commissioners of the IES centers on projects underway since May 2008. From 1:30 p.m. to 2:30 p.m., the Board will hear presentations on the Reading First program and on the Impact Evaluation of Academic Instruction for After-School Programs. At 3 p.m. the IES Deputy Director for Science will discuss trends in IES research. The session will conclude at 4:15 p.m. after a report from the IES evaluation committee and summary views of the NBES chair. On September 10, the meeting will convene at 8:30 a.m. After a review of the agenda, the members will hear a report on the Mid-Stream Evaluation of the National Center on Education Evaluation until approximately 10:15 a.m. From 10:30 a.m. to 12 noon the Board will review and discuss its final 5-year report with recommendations regarding actions to enhance the ability of IES to carry out its priorities and mission. The members will then consider next steps and summary views.

At 12:30 the Board will conduct an election of officers. In accordance with the provisions of Section 10 (d) of the Federal Advisory Committee Act and consistent with exemptions (2) and (6) of Section 552b (c ) of Title 5 U.S. C., this portion of the meeting will be closed to the public because it relates to internal personnel rules and practices of the Board and disclosure of these deliberations could result in an unwarranted invasion of privacy. The meeting will adjourn at 1 p.m.

A final agenda will be available from Norma Garza (see contact information above) on August 22. Individuals who will need accommodations for a disability in order to attend the meeting (e.g., interpreting devices, assistance listening devices, or materials in alternative format) should notify Norma Garza no later than August 22. We will attempt to meet requests for accommodations after this date but cannot guarantee their availability. The meeting site is accessible to individuals with disabilities.

Records are kept of all committee proceedings and are available for public inspection at 555 New Jersey Ave., NW., Room 627 H, Washington, DC 20208, from the hours of 9 a.m. to 5 p.m. Monday through Friday.

Electronic Access to This Document: You may view this document as well as all other documents of this Department published in the Federal Register in text or Adobe Portable Document Format (PDF) on the Internet at the following site: www.ed.gov/news/fed-register/index.html. To use PDF you must have Adobe Acrobat Reader, which is available free at this site. If you have questions about using PDF, call the U.S. Government Printing Office (GPO) toll-free at 1-888-293-6498, or in the Washington, DC, area at (202) 512-1530.

Note: The official version of this document is the document published in the Federal Register. Free Internet access to the official edition of the Federal Register and the Code of Federal Regulations is available on GPO Access at: www.gpoaccess.gov/nara/index.html.

Grover J. Whitehurst,
Director, Institute of Education Sciences.

[FR Doc. E8-18337 Filed 8-7-08; 8:45 am]

BILLING CODE 4000-01-P